DEPARTMENT OF DEFENSE

Department of the Army; Corps of Engineers

Notice of Availability of the Final Environmental Impact Statement (FEIS) for the Proposed Potash Corporation of Saskatchewan Phosphate Mine Continuation Near Aurora, in Beaufort County, NC

AGENCY: Department of the Army, U.S. Army Corps of Engineers, DoD.

ACTION: Notice.

SUMMARY: The U.S. Army Corps of Engineers (COE), Wilmington District, Regulatory Division has been reviewing the request for Department of the Army authorization, pursuant to Section 404 of the Clean Water Act and Section 10 of the Rivers and Harbor Act, from Potash Corporation of Saskatchewan Phosphate Division (PCS) for the continuation of its phosphate mining operation near Aurora, Beaufort County, NC. PCS proposes to undertake an approximately 11,909 acre mine expansion into an approximately 15,100 acre project area surrounding its current mining operation. This expansion would occur over a 37 year period and would impact approximately 4,135 acres of waters of the United States including wetlands adjacent to The Pamlico River, South Creek and Durham Creek. The Notice of Availability of the Draft Environmental Impact Statement (DEIS) for this action was published in the Federal Register on Friday, October 20, 2006 (71 FR 61962). The Notice of Availability of Supplement I of the DEIS (SDEIS) was published in the Federal Register on Tuesday, November 6, 2007 (72 FR 62634).

DATES: Written comments on the Final EIS will be received until July 9, 2008.

ADDRESSES: Comments and questions regarding the Draft EIS may be addressed to: U.S. Army Corps of Engineers, Wilmington District, Regulatory Division. ATTN: File Number 2001-10096, Post Office Box 1890, Wilmington, NC 28402-1890. Copies of the Final EIS, the DEIS and the SDEIS can be reviewed on the Wilmington District Regulatory homepage at, http://www.saw.usace.army.mil/wetlands/regtour.htm, or contact Ms. Thelma Hemingway (910) 251-4789, to receive written or CD copies.

FOR FURTHER INFORMATION CONTACT: Questions about the proposed action and FEIS can be directed to Mr. Tom Walker, Project Manager, Regulatory Division, telephone: (828) 271-7980, extension 222.

SUPPLEMENTARY INFORMATION: 1. Project Description. The PCS Aurora facility includes an open pit mining operation that supplies phosphate ore to its onsite manufacturing facilities producing sulfuric acid, phosphoric acid, purified acid, liquid fertilizer, superphosphoric acid, diammonium phosphate, defluorinated phosphate, animal feed and solid fertilizers. Phosphate mining activities began at this site in 1965. On August 27, 1997, PCS was issued a Department of the Army permit to impact 1,268 acres of waters and wetlands to continue its mining operation into the current mine area. This action is more fully described in the August, 1996 Final Environmental Impact Statement for the Texasgulf Inc. Mine Continuation. PCS is nearing the end of the current mining area and is seeking to continue its mining operation into its adjacent property.

2. Proposed Action. On November 2, 2000, PCS applied for Department of the Army authorization pursuant to Section 404 of the Clean Water Act and Section 10 of the Rivers and Harbors Act to continue its phosphate mining operation into an adjacent tract on the Hickory Point peninsula (the NCPC Tract) adjacent the Pamlico River and South Creek once reserves are depleted under the existing permitted area. The applicant's stated purpose and need for this project is to continue mining its phosphate reserve in an economically viable fashion. More specifically, the applicant's stated purpose and need is to implement a long-term systematic and cost-effective mine advance within the project area for the ongoing PCS mine operation at Aurora, NC.

The Corps circulated a Public Notice describing this application on January 2, 2001 (Action ID No. 200110096). PCS elected to further reduce proposed impacts to waters of the U.S. in response to comments on this Public Notice and submitted a revised permit application on August 13, 2001, for a 15-year mine continuation within the NCPC Tract. The Corps circulated a second Public Notice on October 4, 2001, describing the revised application. The Corps, in considering reasonable alternatives and potential cumulative impacts, determined that the applicant would need to develop alternatives that include mining in areas other than the NCPC Tract and/or mining in multiple locations. On September 8, 2005, the applicant presented the Corps with an applicant preferred holistic plan for mining the entire project area. This plan, and a range of holistic alternatives were fully described in the DEIS and SDEIS.

By letter dated April 25, 2008, the applicant requested that its application be modified to request a permit for an approximately 11,909-acre mine advance through 15,100 acre project area that would impact approximately 4,135 acres of waters of the U.S. including wetlands. Waters and wetlands in the proposed impact area are more specifically described in the following table:

Proposed Impacts:
1. Creeks/Open Water | 7 acres.
1a. Perennial Streams | 13,385 linear feet.
1b. Intermittent Streams | 15,903 linear feet.
2. Brackish Marsh Complex | 0 acres.
3. Bottomland Hardwood Forest | 73 acres.
4. Herbaceous Assemblage | 333 acres.
5. Scrub-Shrub Assemblage | 445 acres.
6. Pine Plantation | 641 acres.
7. Hardwood Forest | 1,075 acres.
8. Mixed Pine-Hardwood Forest | 910 acres.
9. Pine Forest | 353 acres.
10. Pocosin/Bay Forest | 264 acres.
11. Sand Ridge Forest | 22 acres.
10. Ponds | 11 acres.
Total | 4,135 acres.

4. Alternatives. A full range of reasonable alternatives have been identified and evaluated through the scoping process. A complete description of all alternatives carried forward for detailed study is disclosed in Section 2 of the FEIS.

5. Scoping Process. A public scoping meeting was held on February 28, 2001, and an interdisciplinary Review Team (Review Team) comprised of representatives from other state and federal regulatory and commenting agencies, environmental advocacy groups, the applicant, and CZR Incorporated (CZR) (third party consultant to the Corps in accordance with RGL-05-08). The purpose of the Review Team is to identify major issues to be addressed in the EIS and to provide input on potential alternatives to be explored and potentially evaluated. As appropriate, the COE will initiate consultation with the U.S. Fish and Wildlife Service under the Endangered Species Act and the Fish and Wildlife Coordination Act, and with the National Marine Fisheries Service under the Magnuson-Stevens Act and Endangered Species Act. The Corps is coordinating with the North Carolina Division of Water Quality (NCDWQ) to ensure the EIS has assessed the potential water quality impacts pursuant to Section 401 of the Clean Water Act and with the North Carolina Division of Coastal Management (NCDCM) to determine the projects consistency with the Coastal Zone Management Act. The Corps is also coordinating with the NCDCM and NCDWQ in the development of the EIS to ensure the process complies with State Environmental Policy Act (SEPA) requirements, as well as the NEPA requirements. The Corps has attempted to design the FEIS to consolidate both NEPA and SEPA processes to eliminate duplications.

Following the FEIS comment period, the Corps will review all comments and pertinent information. The Corps will then prepare a Record of Decision responding to any substantive issues raised that have not been addressed in the FEIS and documenting the Corps' final decisions on compliance with the Clean Water Act, Section 404(b)(1) Guidelines, its decisions in the public interest review and the final permit decision.

Dated: May 15, 2008.
John E. Pulliam, Jr.,
Colonel, U.S. Army, District Commander.

[FR Doc. E8-11585 Filed 5-22-08; 8:45 am]

BILLING CODE 3710-GN-P